DEPARTMENT OF VETERANS AFFAIRS

Advisory Committee Charter Renewals

AGENCY: Department of Veterans Affairs.

ACTION: Notice of advisory committee charter renewals.

In accordance with the provisions of the Federal Advisory Committee Act (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
Department of Veterans Affairs Voluntary Service National Advisory Committee | Provides advice on the coordination and promotion of volunteer activities within VA health care facilities and on other matters relating to volunteerism | February 28, 2023.
Veterans' Family, Caregiver and Survivor Advisory Committee | Provides advice with respect to the administration of benefits by VA for services to Veterans' families, caregivers and survivors | May 4, 2023.

The Secretary has also renewed the charter for the following statutorily authorized Federal advisory committee for a two-year period, beginning on the date listed below:

Committee name | Committee description | Charter renewed on
Research Advisory Committee on Gulf War Veterans' Illnesses | Provides advice and makes recommendations on proposed research studies, plans and strategies related to understanding and treating the health consequences of military service in the Southwest Asia theater of operations during the 1990-1991 Gulf War (Operations Desert Shield and Desert Storm) | January 11, 2023.
Advisory Committee on Structural Safety of Department of Veterans Affairs Facilities | Provides advice on all matters of structural safety in the construction and remodeling of VA facilities | March 3, 2023.
Veterans' Advisory Committee on Education | Provides advice on the administration of education and training programs for Veterans and Service members; Reservists and Guard personnel; and for dependents of Veterans, including programs under Chapters 30, 32, 33, 35 and 36 of title 38, U.S.C. and Chapter 1606 of title 10, U.S.C | March 13, 2023.
Veterans and Community Oversight and Engagement Board | Coordinates locally with VA to identify the goals of the community and Veteran partnership; provides advice and recommendations to the Secretary of Veterans Affairs, to improve services and outcomes for Veterans, members of the Armed Forces, and the families of such Veterans and members; and provides advice and recommendations on the implementation of the Draft Master Plan approved by the Secretary on January 28, 2016, and on the creation and implementation of any other successor master plans | April 24, 2023.
Advisory Committee on Cemeteries and Memorials | Provides advice on the administration of VA national cemeteries, Soldiers' lots and plots, the selection of cemetery sites, the erection of appropriate memorials and the adequacy of Federal burial benefits | May 16, 2023.
Special Medical Advisory Group | Provides advice on the care and treatment of enrolled Veterans and other matters pertinent to the operations of the Veterans Health Administration | July 7, 2023.
Advisory Committee on Women Veterans | Provides advice on the administration of benefits for women Veterans; reports and studies pertaining to women Veterans; and the needs of women Veterans with respect to health care, rehabilitation benefits, compensation, outreach, and other relevant programs administered by VA | October 4, 2023.

FOR FURTHER INFORMATION CONTACT: Jeffrey Moragne, Committee Management Officer, Department of Veterans Affairs, Advisory Committee Management Office (00AC), 810 Vermont Avenue NW, Washington, DC 20420; telephone (202) 714-1578; or email at Jeffrey.Moragne@va.gov. To view a copy of a VA Federal advisory committee charters, please visit http://www.va.gov/advisory.

Dated: November 24, 2023.
Jelessa M. Burney,
Federal Advisory Committee Management Officer.

[FR Doc. 2023-26265 Filed 11-29-23; 8:45 am]

BILLING CODE P